NATIONAL CREDIT UNION ADMINISTRATION

Sunshine Act Meeting

TIME AND DATE: 10:00 a.m., Thursday, September 13, 2001.

PLACE: Board Room, 7th Floor, Room 7047, 1775 Duke Street, Alexandria, VA 22314-3428.

STATUS: Open.

MATTERS TO BE CONSIDERED:

1. Requests from Three (3) Federal Credit Unions to Convert to Community Charters.

2. Requests from Three (3) Federal Credit Unions to Expand their Community Charters.

3. Proposed Rule: Amendment to Part 704, NCUA's Rules and Regulations, Corporate Credit Unions.

4. Final Rule: Amendments to Section 701.31(d), NCUA's Rules and Regulations, Nondiscrimination in Advertising.

5. Interim Final Rule: Amendment to Part 707, NCUA's Rules and Regulations, Truth in Savings.

RECESS: 11:15 a.m.

TIME AND DATE: 11:30 a.m., Thursday, September 13, 2001.

PLACE: Board Room, 7th Floor, Room 7047, 1775 Duke Street, Alexandria, VA 22314-3428.

STATUS: Closed.

MATTERS TO BE CONSIDERED:

1. Administrative Action under Section 206 of the Federal Credit Union Act. Closed pursuant to exemptions (8), (9)(A)(ii), and (9)(B).

2. Two (2) Administrative Actions under Part 704 of NCUA's Rules and Regulations. Closed pursuant to exemption (8).

3. Corporate Examination Review Task Force Report and Recommendations. Closed pursuant to exemption (8).

4. One (1) Personnel Matter. Closed pursuant to exemptions (2) and (6).

FOR FURTHER INFORMATION CONTACT: Becky Baker, Secretary of the Board, Telephone 703-518-6304.

Becky Baker,
Secretary of the Board.

[FR Doc. 01-22811 Filed 9-6-01; 8:45 am]

BILLING CODE 7535-01-M